DEPARTMENT OF LABOR

Occupational Safety and Health Administration

[Docket Nos. NRTL4-93]

Underwriters Laboratories Inc., Applications for Expansion of Recognition

AGENCY: Occupational Safety and Health Administration (OSHA), Labor.

ACTION: Notice.

SUMMARY: This notice announces the application of Underwriters Laboratories Inc. for expansion of its recognition as a Nationally Recognized Testing Laboratory under 29 CFR 1910.7, and presents the Agency's preliminary finding. This preliminary finding does not constitute an interim or temporary approval of these applications.

DATES: You may submit comments in response to this notice, or any request for extension of the time to comment, by (1) regular mail, (2) express or overnight delivery service, (3) hand delivery, (4) messenger service, or (5) FAX transmission (facsimile). Because of security-related problems there may be a significant delay in the receipt of comments by regular mail. Comments (or any request for extension of the time to comment) must be submitted by the following dates:

Regular mail and express delivery service: Your comments must be postmarked by October 29, 2003.

Hand delivery and messenger service: Your comments must be received in the OSHA Docket Office by October 29, 2003. OSHA Docket Office and Department of Labor hours of operation are 8:15 a.m. to 4:45 p.m.

Facsimile and electronic transmission: Your comments must be sent by October 29, 2003.

ADDRESSES: Regular mail, express delivery, hand-delivery, and messenger service: You must submit three copies of your comments and attachments to the OSHA Docket Office, Docket NRTL4-93, Room N-2625, U.S. Department of Labor, Occupational Safety and Health Administration, 200 Constitution Avenue, NW., Washington, DC 20210. Please contact the OSHA Docket Office at (202) 693-2350 for information about security procedures concerning the delivery of materials by express delivery, hand delivery and messenger service.

Facsimile: If your comments, including any attachments, are 10 pages or fewer, you may fax them to the OSHA Docket Office at (202) 693-1648. You must include the docket number of this notice, Docket NRTL4-93, in your comments.

Internet access to comments and submissions: OSHA will place comments and submissions in response to this notice on the OSHA Web page http://www.osha.gov. Accordingly, OSHA cautions you about submitting information of a personal nature (e.g., social security number, date of birth). There may be a lag time between when comments and submissions are received and when they are placed on the Web page. Please contact the OSHA Docket Office at (202) 693-2350 for information about materials not available through the OSHA Web page and for assistance in using the Web page to locate docket submissions. Comments and submissions will also be available for inspection and copying at the OSHA Docket Office at the address above.

Extension of Comment Period: Submit requests for extensions concerning this notice to: Office of Technical Programs and Coordination Activities, NRTL Program, Occupational Safety and Health Administration, U.S. Department of Labor, Room N3653, 200 Constitution Avenue, NW., Washington, DC 20210. Or fax to (202) 693-1644.

FOR FURTHER INFORMATION CONTACT: Roy Resnick, Office of Technical Programs and Coordination Activities, NRTL Program, Room N3653 at the address shown immediately above for the program, or phone (202) 693-2110.

SUPPLEMENTARY INFORMATION:

Notice of Application

The Occupational Safety and Health Administration (OSHA) hereby gives notice that Underwriters Laboratories Inc. (UL) has applied for expansion of its recognition as a Nationally Recognized Testing Laboratory (NRTL). UL's expansion request covers the use of additional test standards. OSHA's current scope of recognition for UL may be found in the following informational Web page: http://www.osha-slc.gov/dts/otpca/nrtl/ul.html.

OSHA recognition of an NRTL signifies that the organization has met the legal requirements in section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha-slc.gov/dts/otpca/nrtl/index.html.

The most recent notice published by OSHA for UL's recognition covered an expansion of recognition, which became effective on March 25, 2003 (68 FR 14432).

The current addresses of the UL facilities (sites) recognized by OSHA are:

Underwriters Laboratories Inc., 333 Pfingsten Road, Northbrook, Illinois 60062.

Underwriters Laboratories Inc., 1285 Walt Whitman Road, Melville, Long Island, New York 11747.

Underwriters Laboratories Inc., 1655 Scott Boulevard, Santa Clara, California 95050.

Underwriters Laboratories Inc., 12 Laboratory Drive, P.O. Box 13995, Research Triangle Park, North Carolina 27709.

Underwriters Laboratories Inc., 2600 N.W. Lake Road, Camas, Washington, 98607.

UL International Limited, Veristrong Industrial Centre, Block B, 14th Floor, 34 Au Pui Wan Street, Fo Tan Sha Tin, New Territories, Hong Kong.

UL International Services, Ltd., Taiwan Branch, 4th Floor, 260 Da-Yeh Road, Pei Tou District Taipei City, Taiwan.

UL International Demko A/S, Lyskaer 8, P.O. Box 514, DK-2730, Herlev, Denmark.

Underwriters Laboratory International (U.K.) Ltd., Wonersh House, The Guildway, Old Portsmouth Road Guildford, Surrey GU3 1LR, United Kingdom.

Underwriters Laboratory International Italia S.r.l., Via Archimede 42, 1-20041 Agrate Brianza, Milan, Italy Testing facility: Z.I. Predda Niedda st. 18, I-07100, Sassari, Italy.

Underwriters Laboratories of Canada, 7 Crouse Road, Scarborough, Ontario, Canada MIR 3A9.

UL Japan Co., Ltd., Shimbashi Ekimae Bldg.—1 Gohkan, 4th floor, Room 402, 2-20-15 Shimbashi Minato Ku, Tokyo 105-0004, Japan.

UL Korea, Ltd., #805, Manhattan Building 36-2, Yeoui-dong, Yeoungdeungpo-gu, Seoul 150-010, Korea.

UL International Germany GmbH, Frankfurter Strasse 229, D-63263 Neu-Isenburg, Germany.

UL International (Netherlands) B.V., Landjuweel 52, NL-3905 PH Veenendaal, Netherlands.

General Background on the Application.

UL has submitted an application, dated November 18, 2002 (see Exhibit 30), to expand its recognition to include 41 additional test standards. The NRTL Program staff has determined that ten of these standards cannot be included in the expansion because they are not “appropriate test standards” within the meaning of 29 CFR 1910.7(c), while an additional twelve of the standards requested are already included in UL's scope. The staff makes similar determinations in processing expansion requests from any NRTL. Therefore, OSHA would approve 19 test standards for the expansion, which are listed below. Through no fault of UL, the application has been delayed in processing. UL seeks recognition for testing and certification of products for demonstration of conformance to the following test standards:

UL 441 Standard for Gas Vents.

UL 508A Industrial Control Panels.

UL 515 Electrical Resistance Heat Tracing for Commercial and Industrial Applications.

UL 568 Nonmetallic Cable Tray Systems.

UL 943B Appliance Leakage-Current Interrupters.

UL 1004A Fire Pump Motors.

UL 1285 Pipe and Couplings, Polyvinyl Chloride (PVC) for Underground Fire Service.

UL 1713 Pressure Pipe and Coupling, Glass Fiber-Reinforced, for Underground Fire Service.

UL 2129 Standard for Safety for Halocarbon Clean Agent Fire Extinguishers.

UL 2305 Exhibition Display Units, Fabrication and Installation.

UL 2351 Spray Nozzles for Fire-Protection Service.

UL 2388 Flexible Lighting Products.

UL 3111-2-31 Hand-Held Probe Assemblies for Electrical Measurement and Test.

UL 60335-2-8 Household and Similar Electrical Appliances, Part 2: Particular Requirements for Electric Shavers, Hair Clippers, and Similar Appliances.

UL 61010A-2-010 Electrical Equipment for Laboratory Use; Part 2: Particular Requirements for Laboratory Equipment for the Heating of Materials.

UL 61010A-2-041 Electrical Equipment for Laboratory Use; Part 2: Particular Requirements for Autoclaves Using Steam for the Treatment of Medical Materials for Laboratory Processes.

UL 61010A-2-042 Electrical Equipment for Laboratory Use; Part 2: Particular Requirements for Autoclaves and Sterilizers Using Toxic Gas for the Treatment of Medical Materials, and for Laboratory Processes.

UL 61010A-2-051 Electrical Equipment for Laboratory Use; Part 2: Particular Requirements for Laboratory Equipment Mixing and Stirring.

UL 61010A-2-061 Electrical Equipment for Laboratory Use; Part 2: Particular Requirements for Laboratory Atomic Spectrometers with Thermal Atomization and Ionization.

The designations and titles of the above test standards were current at the time of the preparation of this notice.

OSHA's recognition of UL, or any NRTL, for a particular test standard is limited to equipment or materials (i.e., products) for which OSHA standards require third party testing and certification before use in the workplace. Consequently, an NRTL's scope of recognition excludes any product(s) that fall within the scope of a test standard, but for which OSHA standards do not require NRTL testing and certification.

Many of the test standards listed above are approved as American National Standards by the American National Standards Institute (ANSI). However, for convenience in compiling the list, we show the designation of the standards developing organization (e.g., UL 441) for the standard, as opposed to the ANSI designation (e.g., ANSI/UL 441). Under our procedures, an NRTL recognized for an ANSI-approved test standard may use either the latest proprietary or ANSI version of that standard, regardless of which version appears in the list of test standards found on OSHA's informational Web page for the NRTL. Contact “NSSN” (http://www.nssn.org), an organization partially sponsored by ANSI, to find out whether a standard is currently ANSI-approved.

Preliminary Finding on the Application

UL has submitted an acceptable request for expansion of its recognition as an NRTL. In connection with this request, OSHA did not believe it necessary to perform an on-site review of UL's NRTL testing facilities. However, following a review of the application file and other pertinent documents, the NRTL Program staff has concluded that OSHA should grant to UL the expansion of recognition as an NRTL to use the additional test standards listed above (see Exhibit 31). The staff, therefore, recommended to the Assistant Secretary that the application be preliminarily approved.

Based upon the recommendation of the staff, the Agency has made a preliminary finding that Underwriters Laboratories Inc. can meet the requirements, as prescribed by 29 CFR 1910.7, for the expansion of recognition. This preliminary finding does not constitute an interim or temporary approval of the application.

OSHA welcomes public comments, in sufficient detail, as to whether UL has met the requirements of 29 CFR 1910.7 for expansion of its recognition as a Nationally Recognized Testing Laboratory. Your comment should consist of pertinent written documents and exhibits. To consider a comment, OSHA must receive it at the address provided above (see ADDRESSES), no later than the last date for comments (see DATES above). Should you need more time to comment, OSHA must receive your written request for extension at the address provided above no later than the last date for comments. You must include your reason(s) for any request for extension. OSHA will limit any extension to 30 days, unless the requester justifies a longer period. We may deny a request for extension if it is frivolous or otherwise unwarranted. You may obtain or review copies of UL's request, the recommendation on the expansion, and all submitted comments, as received, by contacting the Docket Office, Room N2625, Occupational Safety and Health Administration, U.S. Department of Labor, at the above address. You should refer to Docket No. NRTL4-93, the permanent record of public information on UL's recognition.

The NRTL Program staff will review all timely comments and, after resolution of issues raised by these comments, will recommend whether to grant UL's expansion request. The Agency will make the final decision on granting the expansion and, in making this decision, may undertake other proceedings that are prescribed in Appendix A to 29 CFR Section 1910.7. OSHA will publish a public notice of this final decision in the Federal Register.

Signed at Washington, DC this 7th day of October, 2003.
John L. Henshaw,
Assistant Secretary.

[FR Doc. 03-25908 Filed 10-10-03; 8:45 am]

BILLING CODE 4510-26-P